DEPARTMENT OF STATE

[Public Notice 5506]

Bureau of Political-Military Affairs: Revocation of Defense Export Licenses to Venezuela

AGENCY: Department of State.

ACTION: Notice.

SUMMARY: Notice is hereby given that the United States will no longer authorize the export of defense articles and defense services to Venezuela. Furthermore, all licenses and approvals to export or otherwise transfer defense articles and defense services to Venezuela pursuant to section 38 of the Arms Export Control Act (AECA) are revoked. The use of exemptions from licensing as provided for in the International Traffic in Arms Regulations (ITAR) also are revoked with regard to Venezuela with the exception of the license exemptions at section 123.17 for use in connection with certain temporary exports of firearms and ammunition for personal use.

EFFECTIVE DATE: August 17, 2006.

FOR FURTHER INFORMATION CONTACT: Mr. Stephen J. Tomchik, Office of Defense Trade Controls Policy, Department of State, Telephone (202) 663-2799 or FAX (202) 261-8199.

SUPPLEMENTARY INFORMATION: It is the policy of the U.S. Government to deny all applications for licenses and other approvals to export or otherwise transfer defense articles and services to Venezuela until further notice. In addition, U.S. manufacturers and exporters, and any other affected parties (e.g., brokers) are hereby notified that the Department of State has revoked all licenses and approvals authorizing the export of or other transfers of defense articles or services to Venezuela. Revocation extends to the deletion of Venezuela from any manufacturing license or technical assistance agreement involving Venezuela, including any agreement that has Venezuela as a sales territory. This action also precludes the use in connection with Venezuela of any exemptions from licensing or other approval requirements included in the International Traffic in Arms Regulations (ITAR) (22 CFR parts 120-130), with the exception of the license exemptions at section 123.17 of the ITAR for exports of firearms and ammunition to Venezuela when for personal use by individuals (not for resale or retransfer, including to the Government of Venezuela) and the firearms will be returned to the United States.

This action has been taken pursuant to Section 38 of the AECA (22 U.S.C. 2778) and relevant provisions of the ITAR in furtherance of the foreign policy of the United States.

Dated: August 2, 2006.
Robert G. Joseph,
Under Secretary of State for Arms Control and International Security, Department of State.

[FR Doc. E6-13583 Filed 8-16-06; 8:45 am]

BILLING CODE 4710-25-P